DEPARTMENT OF THE INTERIOR

Fish and Wildlife Service

[FWS-HQ-IA-2013-N294; FXIA16710900000-145-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before February 11, 2014.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Wildlife Discovery Center, Lake Forest, IL; PRT-23115B

The applicant requests a captive-bred wildlife registration under 50 CFR 17.21(g) for the Galapagos tortoise (Chelonoidis nigra), radiated tortoise (Astrochelys radiata), yellow-spotted river turtle (Podocnemis unifilis), spotted pond turtle (Geoclemys hamiltonii), African dwarf crocodile (Osteolaemus tetraspis), Siamese crocodile (Crocodylus siamensis), saltwater crocodile (Crocodylus porosus), yacare caiman (Caiman yacare), caiman (Caiman crocodilus), Chinese alligator (Alligator sinensis), Cuban ground iguana (Cyclura nubila nubila), Grand Cayman blue iguana (Cyclura lewisi), and Aruba Island rattlesnake (Crotalus durissus unicolor) to enhance the species' propagation or survival. This notification covers activities to be conducted by the applicant over a 5-year period.

Applicant: S & B Enterprises, San Antonio, TX; PRT-23114B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: S & B Enterprises, San Antonio, TX; PRT-23113B

The applicant requests a permit authorizing interstate and foreign commerce, export, and cull of excess scimitar-horned oryx (Oryx dammah), Arabian oryx (Oryx leucoryx), addax (Addax nasomaculatus), and dama gazelle (Nanger dama) from the captive herd maintained at their facility, for the purpose of enhancement of the survival of the species. This notification covers activities over a 5-year period.

Applicant: Graham Criglow, Anderson, TX; PRT-23121B

The applicant requests a captive-bred wildlife registration under 50 CFR 17.21(g) for the Galapagos tortoise (Chelonoidis nigra), radiated tortoise (Astrochelys radiata), yellow-spotted river turtle (Podocnemis unifilis), spotted pond turtle (Geoclemys hamiltonii), Mexican giant tortoise (Gopherus flavomarginatus), San Esteban Island chuckwalla (Sauromalus varius), Cuban ground iguana (Cyclura nubila nubila), Grand Cayman blue iguana (Cyclura lewisi), Cayman Brac ground iguana (Cyclura nubila caymanensis), and Jamaican boa (Epicrates subflavus) to enhance the species' propagation or survival. This notification covers activities to be conducted by the applicant over a 5-year period.

Applicant: Jan Youngblood, Mountain Home, TX; PRT-23123B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Jan Youngblood, Mountain Home, TX; PRT-23129B

The applicant requests a permit authorizing interstate and foreign commerce, export, and cull of excess Eld's deer (Rucervus eldii) from the captive herd maintained at their facility, for the purpose of enhancement of the survival of the species. This notification covers activities over a 5-year period.

Applicant: Exotic Feline Breeding Compound, Inc., Rosamond, CA; PRT-708685

The applicant requests amendment of their captive-bred wildlife registration under 50 CFR 17.21(g) to include African wild dog (Lycaon pictus) to enhance the species' propagation or survival. This notification covers activities to be conducted by the applicant over a 5-year period.

Applicant: Thomas Motlow, Dallas, TX; PRT-807218

The applicant requests renewal of their captive-bred wildlife registration under 50 CFR 17.21(g) for radiated tortoise (Astrochelys radiata) to enhance the species' propagation or survival. This notification covers activities to be conducted by the applicant over a 5-year period.

Applicant: Rosamond Gifford Zoo at Burnet Park, Syracuse, NY; PRT-702489

The applicant requests renewal of their captive-bred wildlife registration under 50 CFR 17.21(g) for the following families and species, to enhance the species' propagation or survival. This notification covers activities to be conducted by the applicant over a 5-year period.

Family:

Cebidae

Cercopithecidae

Felidae (does not include jaguar, margay or ocelot)

Hominidae

Hylobatidae

Lemuridae

Macropodidae

Iguanidae

Pelomedusidae

Testudinidae

Species:

Asian elephant (Elephas maximus)

Golden parakeet (Guarouba guarouba)

Humboldt penguin (Spheniscus humboldti)

Applicant: Ox Ranch, Uvalde, TX; PRT-10866B

The applicant requests amendment of their permit authorizing interstate and foreign commerce, export, and cull of excess to include barasingha (Rucervus duvaucelii), Eld's deer (Rucervus eldii), Arabian oryx (Oryx leucoryx), and dama gazelle (Nanger dama) from the captive herd maintained at their facility, for the purpose of enhancement of the survival of the species. This notification covers activities over a 5-year period.

Applicant: Michael Haug, Walterboro, SC; PRT-21102B

The applicant requests a captive-bred wildlife registration under 50 CFR 17.21(g) for the Galapagos tortoise (Chelonoidis nigra), radiated tortoise (Astrochelys radiata), yellow-spotted river turtle (Podocnemis unifilis), spotted pond turtle (Geoclemys hamiltonii), Siamese crocodile (Crocodylus siamensis), Nile crocodile (Crocodylus niloticus), yacare caiman (Caiman yacare), and caiman (Caiman crocodilus) to enhance the species' propagation or survival. This notification covers activities to be conducted by the applicant over a 5-year period.

Applicant: Joan Hemker, Freeport, MN; PRT-21468B

The applicant requests a captive-bred wildlife registration under 50 CFR 17.21(g) for the ring-tailed lemur (Lemur catta), cotton-top tamarin (Saguinus oedipus), and jackass penguin (Spheniscus demersus) to enhance the species' propagation or survival. This notification covers activities to be conducted by the applicant over a 5-year period.

Applicant: Gerard Siatkowski, Miami, FL; PRT-24006B

The applicant requests a captive-bred wildlife registration under 50 CFR 17.21(g) for the Galapagos tortoise (Chelonoidis nigra), radiated tortoise (Astrochelys radiata), yellow-spotted river turtle (Podocnemis unifilis), spotted pond turtle (Geoclemys hamiltonii), and tartaruga (Podocnemis expansa) to enhance the species' propagation or survival. This notification covers activities to be conducted by the applicant over a 5-year period.

Applicant: Little Patch of Texas, Maypearl, TX; PRT-23180B

The applicant requests a captive-bred wildlife registration under 50 CFR 17.21(g) for barasingha (Rucervus duvaucelii), scimitar-horned oryx (Oryx dammah), addax (Addax nasomaculatus), and dama gazelle (Nanger dama) to enhance the species' propagation or survival. This notification covers activities to be conducted by the applicant over a 5-year period

Applicant: Stephen Enders, Lititz, PA; PRT-24007B

The applicant requests a captive-bred wildlife registration under 50 CFR 17.21(g) for the Galapagos tortoise (Chelonoidis nigra), radiated tortoise (Astrochelys radiata), and yellow-spotted river turtle (Podocnemis unifilis) to enhance the species' propagation or survival. This notification covers activities to be conducted by the applicant over a 5-year period.

Applicant: Crissa Cooey, Morgantown, WV; PRT-16390B

The applicant requests a permit to import biological samples from wild Kakapo (Strigops habroptilus) for the purpose of enhancement of the survival of the species by the New Zealand Department of Conservation as part of the recovery plan for the species.

Applicant: William Jensen, Logan, UT; PRT-23351B

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2014-00002 Filed 1-6-14; 8:45 am]

BILLING CODE 4310-55-P